DEPARTMENT OF THE TREASURY

Submission for OMB Review; Comment Request

February 20, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before March 30, 2009 to be assured of consideration.

Internal Revenue Service (IRS)

OMB Number: 1545-0064.

Type of Review: Revision.

Title: Application for Exemption From Social Security and Medicare Taxes and Waiver of Benefits.

Form: 4029.

Description: Form 4029 is used by members of recognized religious groups to apply for exemption from social security and Medicare taxes under IRC sections 1402(g) and 3127. The information is used to approve or deny exemption from social security and Medicare taxes.

Respondents: Individuals or households.

Estimated Total Burden Hours: 3,792 hours.

OMB Number: 1545-1146.

Type of Review: Extension.

Title: Applicable Conventions Under the Accelerated Cost Recovery System PS-54-89 (TD 8444—Final).

Description: The regulations describe the time and manner of making the notation required to be made on Form 4562 under certain circumstances when the taxpayer transfers property in certain non-recognition transactions. The information is necessary to monitor compliance with the section 168 rules.

Respondents: Businesses or other for-profits.

Estimated Total Burden Hours: 70 hours.

OMB Number: 1545-1356.

Type of Review: Extension.

Title: REG-248770-96 (TD 8725—Final) Miscellaneous Sections Affected by the Taxpayer Bill of Rights 2 and the Personal Responsibility and Work Opportunity Reconciliation Act of 1996.

Description: The regulations provide guidance with respect to the recovery of administrative costs incurred in connection with an administrative proceeding before the Internal Revenue Service. Procedures that must be followed to recover such costs are set forth.

Respondents: Individuals or Households.

Estimated Total Burden Hours: 86 hours.

Clearance Officer: Glenn P. Kirkland, (202) 622-3428, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-4150 Filed 2-25-09; 8:45 am]

BILLING CODE 4830-01-P